DEPARTMENT OF ENERGY

Federal Energy Regulatory Commission

[Docket No. RP06-15-000]

Garden Banks Gas Pipeline, LLC; Notice of Proposed Changes in FERC Gas Tariff

October 12, 2005.

Take notice that on October 7, 2005, Garden Banks Gas Pipeline, LLC (Garden Banks) tendered for filing as part of its FERC Gas Tariff, Original Volume No. 1, the following tariff sheets, to become effective November 7, 2005:

Eighth Revised Sheet No. 2.

Third Revised Sheet No. 3.

Eighth Revised Sheet No. 57.

Second Revised Sheet No. 138.

Original Sheet No. 139.

Sheet Nos. 140-209 (sheets reserved for future use).

Garden Banks states it is filing these tariff sheets to reflect currently effective service agreements which do not conform with its form of service agreement. Garden requests that the Commission accept these non-conforming agreements for filing and grant any and all waivers necessary to allow these agreements to be effective as of their respective effective dates and to remain in effect in accordance with their respective terms.

Garden Banks states that copies of its filing have been mailed to all affected customers of Garden Banks and any interested state commissions. Garden Banks further states that due to the voluminous nature of this filing, it is not providing copies of the filed agreements or red-lines of such agreements as part of each service copy. Garden Banks states that the entire filing (excluding certain confidential information, as explained more fully in the filing) will be available in its offices and that it will provide copies of such agreements (excluding certain confidential information) to any affected customer or interested state commission who requests such copies.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5772 Filed 10-18-05; 8:45 am]

BILLING CODE 6717-01-P